ENVIRONMENTAL PROTECTION AGENCY

[FRL 6966-7]

Science Advisory Board; Notification of Public Advisory Committee Meeting

Pursuant to the Federal Advisory Committee Act, Public Law 92-463, notice is hereby given that the Research Strategies Advisory Committee (RSAC) of the US EPA Science Advisory Board (SAB), will meet on Tuesday and Wednesday, May 1 and 2, 2001 at EPA headquarters in room 6013 of the Ariel Rios Building, 1200 Pennsylvania Avenue, NW., Washington, DC 20005. The meeting will begin by 8:30 a.m. and adjourn no later than 5:00 p.m. Eastern Standard time on both days. The meeting is open to the public, however, seating is limited and available on a first come basis.

Purpose of the Meeting

The Science Advisory Board (SAB) has been asked to review and comment on the Fiscal Year (FY) 2002 Presidential Budget proposed for EPA's Office of Research and Development (ORD) and the overall Science and Technology (S&T) budget proposed for the EPA. The RSAC will consider how well the budget request: (a) Reflects priorities identified in the EPA and ORD strategic plans; (b) supports a reasonable balance in terms of attention to core research on multimedia capabilities and issues and to media-specific problem-driven topics; and (c) balances attention to near-term and to long-term research issues. In addition, the Committee will offer its advice on: (a) Whether the objectives of the research and development program in ORD and the broader science and technology programs in EPA can be achieved at the resource levels requested; and (b) how can EPA use or improve upon the Government Performance and Results Act (GPRA) structure to communicate research plans, priorities, research requirements, and planned outcomes. A portion of the meeting will be devoted to development of the Committee's report. The Committee may also discuss the status of its review of the implementation of the peer review program at EPA.

FOR FURTHER INFORMATION CONTACT: Members of the public desiring additional information about the meeting should contact Dr. Jack Fowle, Designated Federal Officer, Research Strategies Advisory Committee (RSAC), USEPA Science Advisory Board (1400A), Room 6450, 1200 Pennsylvania Avenue, NW., Washington, DC 20460; telephone/voice mail at (202) 564-4547; fax at (202) 501-0582; or via e-mail at <fowle.jack@epa.gov>. For a copy of the draft meeting agenda, please contact Ms. Wanda Fields, Management Assistant at (202) 564-4539 or by FAX at (202) 501-0582 or via e-mail at <fields.wanda@epa.gov>.

Materials that are the subject of this review are available from Mr. Mike Feldman of the Office of the Chief Financial Officer or from Ms. Amy Battaglia Office of Research and Development. Mr. Feldman can be reached on (202) 564-6951 or by e-mail at <feldman.mike@epa.gov> and Ms. Battaglia can be reached on (202) 564-6685 or via e-mail on <battaglia.amy@epa.gov>.

Providing Oral or Written Comments

Members of the public who wish to make a brief oral presentation to the Committee must contact Dr. Fowle in writing (by letter or by fax—see previously stated information) no later than 12 noon Eastern Time, Thursday, April 26, 2001 in order to be included on the Agenda. The request should identify the name of the individual who will make the presentation, the organization (if any) they will represent, any requirements for audio visual equipment (e.g., overhead projector, 35mm projector, chalkboard, etc), and at least 35 copies of an outline of the issues to be addressed or the presentation itself. Written comments will be accepted until close of business May 4, 2001. See below for more information on providing written or oral comments.

FOR FURTHER INFORMATION CONTACT: Any member of the public wishing further information concerning this meeting or wishing to submit brief oral comments (10 minutes or less) must contact Dr. John “Jack” R. Fowle III, Designated Federal Officer, Science Advisory Board (1400A), U.S. Environmental Protection Agency, 1200 Pennsylvania Avenue, NW., Washington, DC 20460; telephone (202) 564-4547; FAX (202) 501-0323; or via e-mail at fowle.jack@epa.gov. Requests for oral comments must be in writing (e-mail, fax or mail) and received by Dr. Fowle no later than noon Eastern Standard Time on April 26, 2001.

Providing Oral or Written Comments at SAB Meetings

It is the policy of the Science Advisory Board to accept written public comments of any length, and to accommodate oral public comments whenever possible. The Science Advisory Board expects that public statements presented at its meetings will not be repetitive of previously submitted oral or written statements. Oral Comments: In general, each individual or group requesting an oral presentation at a face-to-face meeting will be limited to a total time of ten minutes. For teleconference meetings, opportunities for oral comment will usually be limited to no more than three minutes per speaker and no more than fifteen minutes total. Deadlines for getting on the public speaker list for a meeting are given above. Speakers should bring at least 35 copies of their comments and presentation slides for distribution to the reviewers and public at the meeting. Written Comments: Although the SAB accepts written comments until the date of the meeting (unless otherwise stated), written comments should be received in the SAB Staff Office at least one week prior to the meeting date so that the comments may be made available to the committee for their consideration. Comments should be supplied to the appropriate DFO at the address/contact information noted above in the following formats: one hard copy with original signature, and one electronic copy via e-mail (acceptable file format: WordPerfect, Word, or Rich Text files (in IBM-PC/Windows 95/98 format). Those providing written comments and who attend the meeting are also asked to bring 25 copies of their comments for public distribution.

General Information

Additional information concerning the Science Advisory Board, its structure, function, and composition, may be found on the SAB Website (http://www.epa.gov/sab) and in The FY1999 Annual Report of the Staff Director which is available from the SAB Publications Staff at (202) 564-4533 or via fax at (202) 501-0256. Committee rosters, draft Agendas and meeting calendars are also located on our website.

Meeting Access

Individuals requiring special accommodation at this meeting, including wheelchair access to the conference room, should contact Dr. Fowle at least five business days prior to the meeting so that appropriate arrangements can be made.

Dated: April 3, 2001.
Donald G. Barnes,
Staff Director, Science Advisory Board.

[FR Doc. 01-9361 Filed 4-13-01; 8:45 am]

BILLING CODE 6560-50-P